FEDERAL COMMUNICATIONS COMMISSION

47 CFR Part 73

[DA 03-1117; MB Docket No. 02-374; RM-10598]

Radio Broadcasting Services; Douglas, AZ, Santa Clara, NM and Tombstone, AZ

AGENCY: Federal Communications Commission.

ACTION: Final rule.

SUMMARY: In response to a proposal filed on behalf of Cochise Broadcasting LLC, licensee of Station KCDQ, Channel 237A, Douglas, Arizona, this document substitutes Channel 237C for Channel 237A at Douglas, reallots Channel 237C to Tombstone, Arizona, as that community's first local aural transmission service, and modifies the license for Station KCDQ, as requested. Additionally, to accommodate the allotment of Channel 237C at Tombstone, an Order to Show Cause was issued to the licensee of Station KNUW(FM), Channel 237C1, Santa Clara, New Mexico, to specify operation on Channel 236C1 at its current transmitter site. Based on an affirmative response, the licensee of Station KNUW(FM) is modified accordingly. See 67 FR 78401 (published December 24, 2002). Coordinates used for Channel 237C at Tombstone, Arizona, are 31-49-00 NL and 110-05-30 WL, representing a site located 11.8 kilometers (7.3 miles) north of the community. Coordinates used for Channel 236C1 at Santa Clara, are those at the licensed site of Station KNUW(FM) at 32-51-47 NL and 108-14-28 WL.

Tombstone, Arizona, and Santa Clara, New Mexico, are each located within 320 kilometers (199 miles) of the U.S.-Mexico border, concurrence of the Mexican government is required. No response has been received. Therefore, Channel 237C has been allotted to Tombstone with the following interim condition: “Operation with the facilities specified herein is subject to modification, suspension or termination without right to a hearing if found by the Commission to be necessary in order to conform to the 1992 USA-Mexico FM Broadcast Agreement” (“Agreement”). Once an official response from the Mexican government has been obtained, the interim condition may be removed. Channel 236C1 at Santa Clara, New Mexico, occurs at the licensed site of Station KNUW(FM). As there is no change in site or class of channel at Santa Clara, we will notify the Mexican government of the channel substitution once the licensee of Station KNUW(FM) has filed an acceptable application to implement the change.

DATES: Effective May 27, 2003.

FOR FURTHER INFORMATION CONTACT: Nancy Joyner, Media Bureau, (202) 418-2180.

ADDRESSES: Federal Communications Commission, 445 12th Street, SW., Washington, DC 20554.

SUPPLEMENTARY INFORMATION: This is a synopsis of the Commission's Report and Order, MB Docket 02-374, adopted April 9, 2003, and released April 11, 2003. The full text of this Commission decision is available for inspection and copying during normal business hours in the FCC's Reference Information Center (Room CY-A257), 445 12th Street, SW., Washington, DC. The complete text of this decision may also be purchased from the Commission's copy contractor, Qualtex International, Portals II, 445 12th Street, SW., Room CY-B402, Washington, DC 20554, telephone (202) 863-2893.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Arizona, is amended by removing Channel 237A at Douglas, and by adding Tombstone, Channel 237C.

3. Section 73.202(b), the Table of FM Allotments under New Mexico, is amended by removing Channel 237C1 and adding Channel 236C1 at Santa Clara.

Federal Communications Commission.
John A. Karousos,
Assistant Chief, Audio Division, Media Bureau.

[FR Doc. 03-10327 Filed 4-25-03; 8:45 am]

BILLING CODE 6712-01-P